DEPARTMENT OF ENERGY

Federal Energy Regulatory Commission

Combined Notice of Filings #1

April 20, 2010.

Take notice that the Commission received the following exempt wholesale generator filings:

Docket Numbers: EG10-33-000.

Applicants: Meadow Lake Wind Farm III LLC.

Description: Self-Certification of exempt wholesale generator status of Meadow Lake Wind Farm III LLC.

Filed Date: 04/20/2010.

Accession Number: 20100420-5110.

Comment Date: 5 p.m. Eastern Time on Tuesday, May 11, 2010.

Docket Numbers: EG10-34-000.

Applicants: Meadow Lake Wind Farm IV LLC.

Description: Self-Certification of exempt wholesale generator status of Meadow Lake Wind Farm IV LLC.

Filed Date: 04/20/2010.

Accession Number: 20100420-5111.

Comment Date: 5 p.m. Eastern Time on Tuesday, May 11, 2010.

Docket Numbers: EG10-35-000.

Applicants: Blackstone Wind Farm II LLC.

Description: Self-Certification of exempt wholesale generator status submitted for filing by Blackstone Wind Farm II LLC.

Filed Date: 04/20/2010.

Accession Number: 20100420-5115.

Comment Date: 5 p.m. Eastern Time on Tuesday, May 11, 2010.

Take notice that the Commission received the following electric rate filings:

Docket Numbers: ER04-170-011.

Applicants: MxEnergy Electric Inc.

Description: MxEnergy Electric Inc. submits revisions to its market-based rate tariff reflecting its status as a Category 2 Seller in the Southwest, Northeast and Northwest regions, effective 4/20/10.

Filed Date: 04/19/2010.

Accession Number: 20100420-0204.

Comment Date: 5 p.m. Eastern Time on Monday, May 10, 2010.

Docket Numbers: ER07-521-009.

Applicants: New York Independent System Operator, Inc.

Description: New York Independent System Operator, Inc. submits its implementation plan in compliance with the April 2008 Order.

Filed Date: 04/16/2010.

Accession Number: 20100419-0212.

Comment Date: 5 p.m. Eastern Time on Friday, May 07, 2010.

Docket Numbers: ER09-1273-001.

Applicants: Westar Energy, Inc., Kansas Gas and Electric Company

Description: Westar Energy, Inc. et al. submits Sub. Original Sheet 132B through 132D et al. to Westar's Open Access Transmission Tariff.

Filed Date: 04/19/2010.

Accession Number: 20100419-0211.

Comment Date: 5 p.m. Eastern Time on Monday, May 10, 2010.

Docket Numbers: ER10-1063-000.

Applicants: Vermont Transco LLC.

Description: Vermont Transco, LLC submits Substation Participation Agreement, currently designated as Rate Schedule 7 etc. to be effective 5/1/10.

Filed Date: 04/16/2010.

Accession Number: 20100419-0205.

Comment Date: 5 p.m. Eastern Time on Friday, May 07, 2010.

Docket Numbers: ER10-1064-000.

Applicants: 511 Plaza Energy, LLC.

Description: 511 Plaza Energy, LLC submits an application for authorization to make wholesale sales of energy and capacity at negotiated, market-based rates.

Filed Date: 04/19/2010.

Accession Number: 20100419-0208.

Comment Date: 5 p.m. Eastern Time on Monday, May 10, 2010.

Docket Numbers: ER10-1065-000.

Applicants: Southern Company Services, Inc.

Description: Southern Companies submits the Interconnection Agreement by and between Piedmont Green Power, LLC and Southern Companies.

Filed Date: 04/19/2010.

Accession Number: 20100419-0210.

Comment Date: 5 p.m. Eastern Time on Monday, May 10, 2010.

Docket Numbers: ER10-1066-000.

Applicants: Alliant Energy Corporate Services, Inc., Wisconsin Power and Light Company.

Description: Wisconsin Power and Light Company submits Notice of Cancellation of WPL's Rate Schedule FERC Electric Tariff, Volume 5 etc.

Filed Date: 04/19/2010.

Accession Number: 20100419-0209.

Comment Date: 5 p.m. Eastern Time on Monday, May 10, 2010.

Docket Numbers: ER10-1067-000.

Applicants: Southwest Power Pool, Inc.

Description: Southwest Power Pool, Inc. submits an executed Interconnection Agreement with Mid-Kansas Electric Company, LLC et al.

Filed Date: 04/19/2010.

Accession Number: 20100420-0206.

Comment Date: 5 p.m. Eastern Time on Monday, May 10, 2010.

Docket Numbers: ER10-1068-000.

Applicants: Southwest Power Pool, Inc.

Description: Southwest Power Pool, Inc. submits an executed Service Agreement for Network Integration Transmission Service with Westar Energy etc.

Filed Date: 04/19/2010.

Accession Number: 20100420-0205.

Comment Date: 5 p.m. Eastern Time on Monday, May 10, 2010.

Docket Numbers: ER10-1069-000.

Applicants: Southwest Power Pool, Inc.

Description: Southwest Power Pool, Inc. submits revisions to its Open Access Transmission Tariff and requests an effective date of 6/19/10.

Filed Date: 04/19/2010.

Accession Number: 20100420-0203.

Comment Date: 5 p.m. Eastern Time on Monday, May 10, 2010.

Take notice that the Commission received the following open access transmission tariff filings:

Docket Numbers: OA08-96-004.

Applicants: Southern Company Services, Inc.

Description: Annual Penalty Assessment and Distribution Report of Southern Company Services, Inc.

Filed Date: 04/19/2010.

Accession Number: 20100419-5268.

Comment Date: 5 p.m. Eastern Time on Monday, May 10, 2010.

Docket Numbers: OA10-9-000.

Applicants: New York Independent System Operator, Inc.

Description: Annual Compliance Report of the New York Independent System Operator, Inc. Regarding Unreserved Use and Late Study Penalties.

Filed Date: 04/19/2010.

Accession Number: 20100419-5270.

Comment Date: 5 p.m. Eastern Time on Monday, May 10, 2010.

Take notice that the Commission received the following electric reliability filings:

Docket Numbers: RD10-10-000.

Applicants: Transmission Relay Loadability Reliability.

Description: Compliance Filing of NERC in Response to Paragraphs 297, 308, 310, 311, and 312 of Order No. 733 Revised Violation Risk Factors and Violation Severity Levels for PRC-023-1 Transmission Relay Loadability.

Filed Date: 04/19/2010.

Accession Number: 20100419-5214.

Comment Date: 5 p.m. Eastern Time on Wednesday, May 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Kimberly D. Bose,
Secretary.

[FR Doc. 2010-11623 Filed 5-14-10; 8:45 am]

BILLING CODE 6717-01-P